DEPARTMENT OF HEALTH AND HUMAN SERVICES

Centers for Disease Control and Prevention

[30Day-14-13UW]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Enhanced Utilization of Personal Dust Monitor Feedback—New—National Institute for Occupational Safety and Health (NIOSH), Centers for Disease Control and Prevention (CDC).

Background and Brief Description

NIOSH, under Public Law 91-596, Sections 20 and 22 (Section 20-22, Occupational Safety and Health Act of 1970) has the responsibility to conduct research relating to innovative methods, techniques, and approaches dealing with occupational safety and health problems.

This research relates to occupational safety and health problems in the coal mining industry. Coal Workers' Pneumoconiosis (CWP) or “Black Lung Disease,” caused by miners' exposure to respirable coal mine dust, is the leading cause of death due to occupational illness among U.S. coal miners. Although the prevalence of CWP was steadily decreasing, more recent data from NIOSH's chest x-ray surveillance data suggests that the prevalence of this disease is on the rise once again.

A Personal Dust Monitor (PDM) has become commercially available that provides miners with near real-time feedback on their exposure to respirable dust. If miners and mine managers know how to properly use the information provided by PDMs, they may be able to make adjustments to the work place and work procedures to try to reduce exposure to respirable dust. It is, therefore, important to study how, and under what circumstances, feedback from PDMs can be used to reduce respirable dust exposure and ultimately the incidence of Black Lung disease.

The objectives of the project are (1) to test an intervention designed to help miners use PDM feedback more effectively to reduce their exposure to respirable dust and (2) to document specific examples of ways that miners can use PDM feedback to alter their behaviors to decrease their exposure to respirable dust while working underground.

NIOSH proposes an intervention to lower miners' respirable dust exposure levels by involving them in the interpretation of PDM feedback and the discussion of ways to change their behaviors to decrease exposure to respirable dust. Upon completion of a pilot test, four underground coal mines will be involved in this research study. Miners who wear PDMs will be assigned to two groups, an experimental group and a control group. An effort will be made to recruit two mines that are currently using PDMs and two mines that have not used PDMs in the past. Large mines will be contacted for participation to make sure that there will be enough individuals wearing PDMs to create both an experimental group and a control group and to allow participants in the experimental group to form sub-groups during the weekly meetings based on their job classification. The PDM feedback discussions will be held weekly during the course of the six-week intervention period. Each session is expected to last for 45 minutes (15 minutes to fill out the worksheet and 30 minutes for the discussion). To control for unintended “discussion” between the control and experimental groups, selection of mine sites will favor mines where separate portals are used or where sister mines within the same company are located near one another.

For miners in the experimental group, data will be collected multiple times during the six-week intervention period. For miners in the control group, data will only be collected at the beginning and end of the intervention period. The assessment tools include: Surveys, worksheets, and structured interviews.

The experimental groups will receive the intervention which will include (1) an introduction to the project, (2) a pre-test concerning miners' attitude, knowledge, and behaviors toward PDM use, (3) a six-week intervention where PDM feedback is discussed in weekly meetings and worksheets are collected from mine personnel about their behaviors the previous week, and (4) a post-test concerning miners' attitude, knowledge, and behaviors toward PDM use and interviews of participants to identify changes in behaviors that were implemented to reduce respirable dust exposure. The control group will wear their PDM units when they are working underground but will not participate in weekly meetings. They will only complete the pre- and post-test and be interviewed upon completion of the intervention period.

The operators at each mine will provide daily respirable coal mine dust exposures levels (as measured by their PDMs) for all of the participating miners. They will provide their PDM output at the end of each participating miners' shift each day during the intervention for a total of 42 days. In addition, they will provide output for each participant for the three days prior to the intervention to establish a baseline measure. Therefore, NIOSH researchers will receive a total of 45 dust output readings for each participant. There is already a software program in place that electronically records these exposure levels and exports them to a spreadsheet that each mine site can open on a computer that has the appropriate software. It is estimated it will take no more than 5 minutes for the mine operator to remove any identifying information from the excel file and just send NIOSH the PDM number and dust output associated with that PDM in a new excel file.

It is estimated that across the 1 pilot mine and 4 intervention mines, up to 209 respondents will be surveyed; up to 109 will complete weekly worksheets; up to 49 respondents will be interviewed; and we will receive PDM output from up to 209 respondents. An exact number of respondents are unavailable at this time because the mine sites have not been selected.

After all of the information has been gathered, a variety of statistical and qualitative analyses will be conducted on the data to obtain conclusions with respect to miners' utilization of PDM feedback. The results from these analyses will be presented in a report describing what methods encourage miners to make behavior changes in response to their PDM output and what behavior changes work best at reducing miners' exposure to respirable dust. If the intervention is successful in reducing respirable coal mine dust exposure, details of the intervention will be more widely disseminated to coal mine operators so they can implement similar discussion groups at their mines.

There is no cost to respondents other than their time. The total estimated annualized burden hours are 798.

Estimated Annualized Burden Hours
Type of respondents | Form name | Number of respondents | Number of responses per respondent | Average burden per response (in hours)
Mine Safety Operators | Script for Phone and/or Email Mine Recruitment Script | 5 | 1 | 5/60
Individual Miners from Experimental and Control Groups | Recruitment Script for Individual Miners | 209 | 1 | 3/60
Experimental Groups (from five different mines) | Week 1 PDM Pre-Survey | 109 | 1 | 15/60
| Week 2 Participant Worksheet | 109 | 1 | 15/60
| Week 3-5 Participant Worksheets | 327 | 3 | 15/60
| Week 6 PDM Post-Survey | 109 | 1 | 15/60
| Facilitator Weekly Meeting Manual | 109 | 6 | 30/60
| Interview Guide for Miners' Utilization of PDM Feedback | 29 | 1 | 1
Mine Safety Operators for Experimental Groups (from five different mines) | Daily respirable coal mine dust exposure data | 5 | 45 | 5/60
Mine Safety Operators for Control Groups (from four different mines) |  | 4 | 45 | 5/60
Control Groups (from four different mines) | Week 1 PDM Pre-Survey | 100 | 1 | 15/60
| Week 6 PDM Post-Survey | 100 | 1 | 15/60
| Interview Guide for Miners' Utilization of PDM Feedback | 20 | 1 | 1

LeRoy Richardson,
Chief, Information Collection Review Office, Office of Scientific Integrity, Office of the Associate Director for Science, Office of the Director, Centers for Disease Control and Prevention.

[FR Doc. 2013-26114 Filed 10-31-13; 8:45 am]

BILLING CODE 4163-18-P